DEPARTMENT OF THE INTERIOR

Bureau of Land Management

[LLNVC00000.L16100000.DR0000; 14-08807; MO# 4500084731]

Notice of Availability Nevada and California Greater Sage-Grouse Bi-State Distinct Population Segment Land Use Plan Amendment and Record of Decision

AGENCY: Bureau of Land Management, Interior.

ACTION: Notice.

SUMMARY: The Bureau of Land Management (BLM) announces the availability of the Record of Decision (ROD) for the approved Nevada and California Greater Sage-Grouse Bi-State Distinct Population Segment Land Use Plan Amendment (LUPA) for the Carson City District and the Tonopah Field Office located in Nevada. The Nevada State Director signed the ROD on May 27, 2016, which constitutes the final decision of the BLM and makes the LUPA effective immediately.

ADDRESSES: Copies of the ROD/approved LUPA are available upon request from the Carson City District Manager, Bureau of Land Management, 5665 Morgan Mill Road, Carson City, NV 89701, Battle Mountain District Manager, Bureau of Land Management, 50 Bastian Road, Battle Mountain, NV 89820 or via the Internet at http://www.blm.gov/nv/st/en/fo/carson_city_field.html. Copies of the ROD/approved LUPA are available for public inspection at the Carson City or Battle Mountain District Offices at the above addresses.

FOR FURTHER INFORMATION CONTACT: Colleen Sievers, Project Manager, telephone: 775-885-6168; address: 5665 Morgan Mill Rd., Carson City, NV 89701; email: blm_nv_ccdowebmail@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The Nevada California Greater Sage-Grouse Bi-State Distinct Population Segment Land Use Plan will amend the Carson City Field Office Consolidated Resource Management Plan (RMP) (2001) and the Tonopah Field Office RMP (1997). The LUPA and associated environmental impact statement (EIS) were developed using a collaborative planning process. The United States Forest Service (USFS) was the lead agency for preparing the EIS and LUPA. The BLM was a cooperating agency. The LUPA encompasses approximately 280,000 acres of public land administered by the BLM Nevada, located in Carson City, Douglas, Esmeralda, Lyon, and Mineral counties in Nevada and Alpine County, California. The decision area does not include private lands, State lands, tribal lands, or Federal lands not administered by the BLM. The LUPA/ROD will add goals, objectives, action, and best management practices specifically designed to conserve, enhance, and restore habitats to provide for the long-term viability of the Greater Sage-Grouse Bi-State Distinct Population Segment (BSSG). The LUPA provides direction at the land-use-plan level to include regulatory mechanisms for the management and conservation of BSSG habitats within the BLM Carson City and Battle Mountain Districts to support the BSSG population management objectives within the States of Nevada and California.

The proposed LUPA/final EIS was made available to the public on February 13, 2015 (80 FR 8081). Three valid protest letters were received and seven issues were identified. No inconsistencies were identified by the Offices of the Governor for the States of California or Nevada during the Governor's consistency review. The Director's Protest Report is available from the Carson City District's Web site at: http://www.blm.gov/nv/st/en/fo/carson_city_field.html.

The following changes to the Proposed Amendment are made final in the ROD/Approved Amendment as a result of protests raised during the protest process and additional agency discussions: Set a total anthropogenic disturbance of no more than 3 percent of the total BSSG habitat on Federal lands within the Bodie Mountain/Grant, Desert Creek/Fales, and White Mountains population management unit boundaries (PMU); and a total anthropogenic disturbance of no more than 1.5 percent of the total BSSG habitat on Federal lands within the Pine Nut Mountains PMU; tall structures, which could serve as predator perches, will not be authorized within 4 miles of an active or pending lek; designate right-of-way exclusion areas within BSSG habitat for new high-power (120kV) transmission line corridors, rights-of-way, facilities, or construction areas in habitat (outside of existing corridors); and clarify that connective areas will be maintained or enhanced.

The EIS analyzes three alternatives: Alternative A (no action), Alternative B (Modified Proposed Action), and Alternative C (conservation). The BLM Proposed Plan Amendment is the same as Alternative B with the language modified to be consistent with BLM planning language. The BLM Proposed Plan Amendment as described in the Final EIS was selected in the ROD, with some modifications and clarifications based on protests raised during the protest process and additional agency discussions. The ROD adopts the final EIS's goals and objections and the management actions to reach those goals and objections.

The ROD does not directly implement any specific action. Future actions will be consistent with the management direction in the approved LUPA and will be made through a future decision-making process, including appropriate environmental review. Examples of site-specific planning efforts for resource-use activities are special recreation permits and right-of-way grants.

Authority: 40 CFR 1506.6.

John F. Ruhs,
State Director, Nevada.

[FR Doc. 2016-12605 Filed 5-26-16; 8:45 am]

BILLING CODE 4310-HC-P